NATIONAL COUNCIL ON DISABILITY

Sunshine Act Meetings

Type: Quarterly Meeting.

Dates and Times:

July 20, 2009, 8:30 a.m.-4:30 p.m.

July 21, 2009, 9 a.m.-5 p.m.

July 22, 2009, 8:30 a.m.-11 a.m.

Location: Minneapolis Marriott City Center, 30 South 7th Street, Minneapolis, MN 55402.

Status:

July 20, 2009, 8:30 a.m.-4:30 p.m.—Open.

July 21, 2009, 9 a.m.-5 p.m.—Open.

July 22, 2009, 8 a.m.-8:30 a.m.—Closed Executive Session.

July 22, 2009, 8:30 a.m.-11 a.m.—Open.

Agenda: Public Comment Sessions; Emergency Preparedness; Housing; Developmental Disabilities and Bill of Rights Act, Workforce Infrastructure, International Development, 2010 National Summit on Disability Policy, United States Marine Corps Research Project, 2011 Strategic Planning, Reports from the Chairperson, Council Members, and the Executive Director; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax).

Agency Mission: NCD is an independent federal agency, composed of 15 members appointed by the President, by and with the consent of the U.S. Senate. The purpose of the NCD is to promote policies, programs, practices, and procedures that guarantee equal opportunity for all individuals with disabilities, and that empower individuals with disabilities to achieve economic self-sufficiency, independent living, and inclusion and integration into all aspects of society. To carry out this mandate we gather public and stakeholder input, including that received at our public meetings held around the country; review and evaluate Federal programs and legislation; and provide the President, Congress and federal agencies with advice and recommendations.

Accommodations: Those needing reasonable accommodations should notify NCD immediately.

Dated: June 9, 2009.
Michael C. Collins,
Executive Director.

[FR Doc. E9-14649 Filed 6-18-09; 11:15 am]

BILLING CODE 6820-MA-P